ENVIRONMENTAL PROTECTION AGENCY

40 CFR Part 52

[EPA-R09-OAR-2022-0957; FRL-10543-02-R9]

Partial Approval, Conditional Approval, and Partial Disapproval of Air Quality State Implementation Plans; Nevada; Infrastructure Requirements for Ozone

AGENCY: Environmental Protection Agency (EPA).

ACTION: Final rule.

SUMMARY: The Environmental Protection Agency (EPA) is approving in part, conditionally approving in part, and disapproving in part a state implementation plan (SIP) revision submitted by the State of Nevada pursuant to the requirements of the Clean Air Act (CAA or “Act”) for the implementation, maintenance, and enforcement of the 2015 national ambient air quality standards (NAAQS) for ozone. As part of this action, we are reclassifying a region of the State for emergency episode planning purposes with respect to ozone. Finally, we are approving a regulatory revision into the Nevada SIP.

DATES: This rule is effective June 20, 2023.

ADDRESSES: The EPA has established a docket for this action under Docket ID No. EPA-R09-OAR-2022-0957. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Nicole Law, Planning Section (AIR-2-1), U.S. Environmental Protection Agency, Region IX, (415) 947-4126, Law.Nicole@epa.gov.

SUPPLEMENTARY INFORMATION: Throughout this document, “we,” “us,” and “our” refer to the EPA.

Table of Contents

I. Background

II. Public Comments and EPA Responses

III. Final Action

IV. Incorporation by Reference

V. Statutory and Executive Order Reviews

I. Background

A. Statutory Requirements

Section 110(a)(1) of the CAA requires each state to submit to the EPA, within three years after the promulgation of a primary or secondary NAAQS or any revision thereof, a SIP revision that provides for the implementation, maintenance, and enforcement of such NAAQS.

Section 110(a)(2) of the CAA contains the infrastructure SIP requirements, which generally relate to the information, authorities, compliance assurances, procedural requirements, and control measures that constitute the “infrastructure” of a state's air quality management program. These infrastructure SIP requirements (or “elements”) required by section 110(a)(2) are as follows:

• Section 110(a)(2)(A): Emission limits and other control measures.

• Section 110(a)(2)(B): Ambient air quality monitoring/data system.

• Section 110(a)(2)(C): Program for enforcement of control measures and regulation of new and modified stationary sources.

• Section 110(a)(2)(D)(i): Interstate pollution transport.

• Section 110(a)(2)(D)(ii): Interstate pollution abatement and international air pollution.

• Section 110(a)(2)(E): Adequate resources and authority, conflict of interest, and oversight of local and regional government agencies.

• Section 110(a)(2)(F): Stationary source monitoring and reporting.

• Section 110(a)(2)(G): Emergency episodes.

• Section 110(a)(2)(H): SIP revisions.

• Section 110(a)(2)(J): Consultation with government officials, public notification, prevention of significant deterioration (PSD), and visibility protection.

• Section 110(a)(2)(K): Air quality modeling and submittal of modeling data.

• Section 110(a)(2)(L): Permitting fees.

• Section 110(a)(2)(M): Consultation/participation by affected local entities.

Two elements identified in section 110(a)(2) are not governed by the three-year submittal deadline of section 110(a)(1) and are therefore not addressed in this action. These two elements are: (i) section 110(a)(2)(C), to the extent it refers to permit programs required under part D (nonattainment new source review (NSR)), and (ii) section 110(a)(2)(I), pertaining to the nonattainment planning requirements of part D. As a result, this action does not address requirements for the nonattainment NSR portion of section 110(a)(2)(C) or the whole of section 110(a)(2)(I).

B. NAAQS Addressed by This Final Rule

On October 26, 2015, the EPA promulgated a revised NAAQS for ozone (“the 2015 ozone NAAQS”), triggering a requirement for states to submit infrastructure SIPs within three years of promulgation of the revised NAAQS. The 2015 ozone NAAQS revised the 2008 8-hour ozone NAAQS by lowering the primary and secondary 8-hour ozone standards from 75 parts per billion (ppb) to 70 ppb.¹

¹ 80 FR 65292 (October 26, 2015).

The Nevada Department of Environmental Protection (NDEP) made a submittal addressing the infrastructure SIP requirements for the 2015 ozone NAAQS on September 28, 2018 (“Nevada's Infrastructure SIP Submittal”).² It included separate sections for Clark County ³ and Washoe County.⁴ We refer to each individual section as that agency's or County's portion of the submittal. In accordance with CAA section 110(k)(1)(B), the infrastructure SIP became complete by operation of law on March 28, 2019.

² Although NDEP submitted Nevada's Infrastructure SIP Submittal electronically on September 28, 2018, the submittal letter is dated October 1, 2018, from Greg Lovato, Administrator, Nevada Division of Environmental Protection, to Mike Stoker, Regional Administrator, U.S. EPA Region IX, RE: “The Nevada State Implementation Plan for the 2015 Primary and Secondary Ozone NAAQS.”

³ Letter dated September 12, 2018, from Marci Henson, Director, Clark County Department of Air Quality, to Greg Lovato, Administrator, Nevada Division of Environmental Protection, RE: “Clark County Portion of the Nevada Infrastructure State Implementation Plan for the 2015 Ozone NAAQS.”

⁴ Letter dated August 28, 2018, from Charlene Albee, Director, Washoe County Health District Air Quality Management Division, to Greg Lovato, Administrator, Nevada Division of Environmental Protection, Subject: “2015 Ozone National Ambient Air Quality Standard Infrastructure State Implementation Plan (SIP).”

C. EPA's Proposal

1. Approvals and Partial Approvals

(a) Infrastructure SIP Requirements

On January 11, 2023, we proposed to approve and partially approve Nevada's Infrastructure SIP Submittal for the requirements of the following sections of the CAA: 5 6

⁵ 88 FR 1537 (January 11, 2023).

⁶ All approvals are full approvals for NDEP, Clark County, and Washoe County except where noted otherwise.

• 110(a)(2)(A): Emission limits and other control measures.

• 110(a)(2)(B): Ambient air quality monitoring/data system.

• 110(a)(2)(C) (in part): Program for enforcement of control measures (full approval), and regulation of new stationary sources (approval for Clark County only) and minor sources (full approval).

• 110(a)(2)(D) (in part, see below): Interstate Pollution Transport.

○ 110(a)(2)(D)(i)(II) (in part)—interference with PSD (prong 3) (approval for Clark County only).

○ 110(a)(2)(D)(ii) (in part)—interstate pollution abatement (approval for Clark County only) and international air pollution (full approval).

• 110(a)(2)(E): Adequate resources and authority, conflict of interest, and oversight of local governments and regional agencies.

• 110(a)(2)(F): Stationary source monitoring and reporting.

• 110(a)(2)(G): Emergency episodes.

• 110(a)(2)(H): SIP revisions.

• 110(a)(2)(J) (in part): Consultation with government officials, public notification (conditional approval for NDEP and Washoe County, full approval for Clark County), and PSD and visibility protection (full approval for Clark County only).

• 110(a)(2)(K): Air quality modeling and submission of modeling data.

• 110(a)(2)(L): Permitting fees.

• 110(a)(2)(M): Consultation/participation by affected local entities.

(b) Proposed Approval of a State Provision Into the Nevada SIP

As part of our proposed action on Nevada's Infrastructure SIP Submittal, we proposed to approve a state regulation into the Nevada SIP. Specifically, we proposed to approve into the SIP a new version of Nevada Administrative Code (NAC) 445B.22097, which revises the 8-hour ozone standard in the Nevada standards table from 0.075 to 0.070 parts per million (ppm) to be consistent with the 2015 ozone NAAQS and deletes the “National Standards” and “Method” columns because both are for reference only and are often out-of-date compared to the referenced federal regulations.

2. Conditional Approvals

The EPA proposed to conditionally approve portions of the NDEP and Washoe County Infrastructure SIP Submittals addressing the public notification requirements of CAA section 110(a)(2)(J) for the 2015 ozone NAAQS based on commitments from NDEP and Washoe County to adopt and submit specific enforceable measures to address the deficiencies identified in our proposed rulemaking.⁷

⁷ Letter dated September 9, 2022, from Greg Lovato, Administrator, Nevada Division of Environmental Protection, to Martha Guzman, Regional Administrator, U.S. EPA Region IX, Re: “Request for Conditional Approval of Nevada's Infrastructure State Implementation Plan for the 2012 PM2.5 and 2015 Ozone National Ambient Air Quality Standards.” and Letter dated September 2, 2022, from Greg Lovato, Administrator, Nevada Division of Environmental Protection to Martha Guzman, Regional Admin, Re: Nevada's Infrastructure State Implementation Plan for the 2012 PM2.5 National Ambient Air Quality Standard dated September 9, 2022 that enclosed the letter from Francisco Vega, Director, Air Quality Management Division, Washoe County Health Division to Greg Lovato, Administrator, Nevada Division of Environmental Protection and Martha Guzman, EPA, Re: “Request for Conditional Approval of Nevada's Infrastructure State Implementation Plan for the 2012 PM2.5 and 2015 Ozone National Ambient Air Quality Standards.”

3. Partial Disapprovals

The EPA proposed to partially disapprove Nevada's Infrastructure SIP Submittal with respect to the following infrastructure SIP requirements:

• 110(a)(2)(C) (in part): Regulation of new and modified stationary sources (disapproval for NDEP and Washoe County).

• 110(a)(2)(D)(i)(II) (in part): interference with PSD (prong 3) (disapproval for NDEP and Washoe County).

• 110(a)(2)(D)(ii) (in part): interstate pollution abatement (disapproval for NDEP and Washoe County).

• 110(a)(2)(J) (in part): PSD (disapproval for NDEP and Washoe County).

Although the NDEP and Washoe County portions of the SIP remain deficient with respect to PSD requirements, the EPA noted that the proposed disapproval, if finalized, would have no Federal Implementation Plan (FIP) consequences, as both agencies already implement the Federal PSD program at 40 CFR 52.21 for all regulated NSR pollutants, pursuant to delegation agreements with the EPA.

4. Reclassification

We proposed to retain the Priority I classification for the Las Vegas Intrastate Air Quality Control Regions (AQCR) and Priority III classification for the Nevada Intrastate AQCR. We proposed to reclassify the Northwest Nevada Intrastate AQCR from Priority III to Priority I for ozone. Priority I regions are required to have SIP-approved emergency episode plans, which are also called “contingency plans.”

5. Deferred Action

The EPA did not propose action on the interstate transport visibility requirements of 110(a)(2)(D)(i)(II), which is also called Prong 4 of the interstate transport requirements. On August 12, 2022, NDEP withdrew the Prong 4 element in the Nevada's Infrastructure SIP Submittal and submitted a revised Prong 4 element with the State's Regional Haze Plan for the 2nd Planning Period.⁸ The EPA intends to act on the revised Prong 4 element when we act on Nevada's Regional Haze Plan for the 2nd Planning Period and is therefore not acting on the requirement as part of this action.

⁸ See letter dated August 12, 2022, from Greg Lovato, Administrator, Nevada Department of Environmental Protection, to Martha Guzman, Regional Administrator, EPA Region IX, Subject: “The Nevada State Implementation Plan for the Regional Haze Rule for the Second Planning Period; Withdrawal and Replacement of Elements of the 2012 PM2.5 NAAQS and 2015 Ozone NAAQS Infrastructure SIPs.”

Additionally, the EPA did not propose action on the following CAA requirements because they are addressed in separate rulemakings: ⁹

⁹ 88 FR 9336 (February 13, 2023).

• 110(a)(2)(D) (in part, see below): Interstate Pollution Transport.

○ 110(a)(2)(D)(i)(I)—significant contribution to a nonattainment area (prong 1).

○ 110(a)(2)(D)(i)(I)—significant contribution to a maintenance area (prong 2).

II. Public Comments and EPA Responses

The EPA's proposed action provided a 30-day public comment period that ended on February 10, 2023. During this period, the EPA received one anonymous comment. The full text of the comment is available in the docket for this rulemaking.

The comment recommended that the federal government take immediate action to clean the air and suggested that the state of Utah has failed to clean the air in valley areas like Salt Lake and the Uinta Basin. Additionally, the comment states there is a water crisis and the federal government needs to take leadership. After reviewing the comment, the EPA has determined that the comment fails to raise issues germane to our proposed finding that the State of Nevada largely meets the infrastructure SIP requirements of section 110(a)(2) of the Act, which only evaluated the State's ability to implement, maintain, and enforce the 2015 Ozone NAAQS. Therefore, we have determined that this comment does not necessitate a response, and the EPA will not provide a specific response to the comment in this document.

III. Final Action

A. Partial Approvals, Conditional Approvals, and Partial Disapprovals

Under CAA section 110(a), we are partially approving and partially disapproving Nevada's Infrastructure SIP submittal for the 2015 Ozone NAAQS. Specifically, we are fully approving the submittal for the requirements of CAA sections:

• 110(a)(2)(A): Emission limits and other control measures.

• 110(a)(2)(B): Ambient air quality monitoring/data system.

• 110(a)(2)(C) (in part): Program for enforcement of control measures (full approval), and regulation of new stationary sources (approval for Clark County only) and minor sources (full approval).

• 110(a)(2)(D) (in part, see below): Interstate Pollution Transport.

○ 110(a)(2)(D)(i)(II) (in part)—interference with PSD (prong 3) (approval for Clark County only).

○ 110(a)(2)(D)(ii) (in part)—interstate pollution abatement (approval for Clark County only) and international air pollution (full approval).

• 110(a)(2)(E): Adequate resources and authority, conflict of interest, and oversight of local governments and regional agencies.

• 110(a)(2)(F): Stationary source monitoring and reporting.

• 110(a)(2)(G): Emergency episodes.

• 110(a)(2)(H): SIP revisions.

• 110(a)(2)(J) (in part): Consultation with government officials, public notification (conditional approval for NDEP and Washoe County, full approval for Clark County), and PSD and visibility protection (full approval for Clark County only).

• 110(a)(2)(K): Air quality modeling and submission of modeling data.

• 110(a)(2)(L): Permitting fees.

• 110(a)(2)(M): Consultation/participation by affected local entities.

The EPA is taking final action to conditionally approve the NDEP and Washoe County portions of Nevada's Infrastructure SIP Submittal addressing the public notification requirements of CAA section 110(a)(2)(J) for the 2015 Ozone NAAQS.

We are taking final action to disapprove Nevada's Infrastructure SIP Submittal with respect to the following infrastructure SIP requirements:

• 110(a)(2)(C) (in part): Regulation of new and modified stationary sources (disapproval for NDEP and Washoe County).

• 110(a)(2)(D)(i)(II) (in part): interference with PSD (prong 3) (disapproval for NDEP and Washoe County).

• 110(a)(2)(D)(ii) (in part): interstate pollution abatement (disapproval for NDEP and Washoe County).

• 110(a)(2)(J) (in part): PSD (disapproval for NDEP and Washoe County).

Although the NDEP and Washoe County portions of the SIP remain deficient with respect to PSD requirements, this final disapproval action has no FIP consequences, as both agencies implement the Federal PSD program at 40 CFR 52.21 for all regulated NSR pollutants, pursuant to delegation agreements with the EPA.

B. Approval of an Updated Nevada State-Wide Provision

In this final action, the EPA is also approving into the Nevada SIP revisions to the Nevada Administrative Code (NAC). The EPA is approving a new version of NAC 445B.22097, which revises the 8-hour ozone standard in the Nevada standards table from 0.075 to 0.070 parts per million (ppm) to be consistent with the 2015 ozone NAAQS. The updated provisions strengthen the SIP or clarify certain terms in the SIP, as discussed in our proposed rulemaking, and meet the requirements of CAA sections 110(a)(2), 110(l), and 193. Therefore, the EPA is approving the submitted revised rule into the Nevada SIP as proposed.

C. Reclassification and Exemption of AQCRs for Emergency Episode Planning

This final rule retains the classification of the Las Vegas Intrastate AQCRs as Priority I and the classification of the Nevada Intrastate AQCR as Priority III for emergency episodes. This rule reclassifies the Northwest Nevada Intrastate AQCR to Priority I.

IV. Incorporation by Reference

In this rule, the EPA is finalizing regulatory text that includes incorporation by reference as described in Section III.B. and set forth below in the amendments to 40 CFR part 52. The EPA has made, and will continue to make, these documents available through https://www.regulations.gov and at the EPA Region IX Office (please contact the person identified in the FOR FURTHER INFORMATION CONTACT section of this preamble for more information).

V. Statutory and Executive Order Reviews

Additional information about these statutes and Executive orders can be found at https://www.epa.gov/laws-regulations/laws-and-executive-orders.

A. Executive Order 12866: Regulatory Planning and Review, Executive Order 13563: Improving Regulation and Regulatory Review, and Executive Order 14094: Modernizing Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the National Government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Populations

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Under the CAA, the Administrator is required to approve a SIP submission that complies with the provisions of the Act and applicable federal regulations. 42 U.S.C. 7410(k); 40 CFR 52.02(a). Thus, in reviewing SIP submissions, the EPA's role is to review state choices, and approve those choices if they meet the minimum criteria of the Act. Accordingly, this final action is approving in part, conditionally approving in part, and disapproving in part a state implementation plan as meeting federal requirements and does not impose additional requirements beyond those imposed by state law.

The State did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by July 18, 2023. Filing a petition for reconsideration by the Administrator of this final rule does not affect the finality of this rule for the purposes of judicial review nor does it extend the time within which a petition for judicial review may be filed and shall not postpone the effectiveness of such rule or action. This action may not be challenged later in proceedings to enforce its requirements (see section 307(b)(2)).

List of Subjects in 40 CFR Part 52

Environmental protection, Administrative practice and procedure, Air pollution control, Incorporation by reference, Intergovernmental relations, Reporting and recordkeeping requirements.

Authority: 42 U.S.C. 7401 et seq.

Dated: May 15, 2023.
Martha Guzman Aceves,
Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart DD—Nevada

2. Amend § 52.1470 as follows:

a. In paragraph (c), amend table 1 by:

i. Under the table heading “Nevada Administrative Code, Chapter 445B, Air Controls, Air Pollution; Nevada Administrative Code, Chapter 445, Air Controls, Air Pollution; Nevada Air Quality Regulations—General Provisions”, revise the entry for “445B.22097”.

b. In paragraph (e), in the table under the heading “AIR QUALITY IMPLEMENTATION PLAN FOR THE STATE OF NEVADA”, add the entries “The Nevada Division of Environmental Protection Portion of the Nevada State Implementation Plan for the 2015 Ozone NAAQS: Demonstration of Adequacy, excluding the cover letter; the part addressing the requirements of CAA 110(a)(2)(D)(i)(I); and Appendices”, “The Clark County Portion of the State Implementation Plan to meet the Ozone Infrastructure SIP Requirement of Clean Air Act Section 110(a)(2), excluding the cover letter to NDEP; the part of the submittal addressing the requirements of CAA 110(a)(2)(D)(i)(I); and Attachment A”, and “The Washoe County Portion of the Nevada State Implementation Plan to Meet the Ozone Infrastructure SIP Requirements of Clean Air Act Section 110(a)(2), excluding the cover letter to NDEP, the part of the submittal addressing the requirements of CAA 110(a)(2)(D)(i)(I), and all Attachments and Appendices.” after the entry “The Washoe County Portion of the Nevada State Implementation Plan to Meet the PM2.5 Infrastructure SIP Requirements of Clean Air Act Section 110(a)(2), excluding the cover letter to NDEP and all Attachments and Appendices”.

The revisions and additions read as follows:

§ 52.1470 Identification of plan.

* * * * *

(c) * * *

Table 1—EPA-Approved Nevada Regulations and Statutes
State citation | Title/subject | State effective date | EPA approval date | Additional explanation
* * * * * * *
Nevada Administrative Code, Chapter 445B, Air Controls, Air Pollution; Nevada Administrative Code, Chapter 445, Air Controls, Air Pollution; Nevada Air Quality Regulations—General Provisions
* * * * * * *
445B.22097 | Standards of quality for ambient air | 05/16/2018 | [INSERT Federal Register CITATION], 05/19/2023 | Most recently approved version was submitted on 12/11/15.
* * * * * * *

* * * * *

(e) * * *

EPA-Approved Nevada Nonregulatory Provisions and Quasi-Regulatory Measures
Name of SIP provision | Applicable geographic or nonattainment area | State submittal date | EPA approval date | Additional explanation
AIR QUALITY IMPLEMENTATION PLAN FOR THE STATE OF NEVADA ¹
* * * * * * *
The Nevada Division of Environmental Protection Portion of the Nevada State Implementation Plan for the 2015 Ozone NAAQS: Demonstration of Adequacy, excluding the cover letter; the part addressing the requirements of CAA 110(a)(2)(D)(i)(I); and Appendices | State-wide within NDEP jurisdiction | 9/28/18 | [INSERT Federal Register CITATION], 05/19/2023 | NDEP “Infrastructure” SIP for the 2015 Ozone NAAQS.
The Clark County Portion of the State Implementation Plan to meet the Ozone Infrastructure SIP Requirement of Clean Air Act Section 110(a)(2), excluding the cover letter to NDEP; the part of the submittal addressing the requirements of CAA 110(a)(2)(D)(i)(I); and Attachment A | Clark County | 9/28/18 | [INSERT Federal Register CITATION], 05/19/2023 | Clark County “Infrastructure” SIP for the 2015 Ozone NAAQS.
The Washoe County Portion of the Nevada State Implementation Plan to Meet the Ozone Infrastructure SIP Requirements of Clean Air Act Section 110(a)(2), excluding the cover letter to NDEP the part of the submittal addressing the requirements of CAA 110(a)(2)(D)(i)(I), and all Attachments and Appendices | Washoe County | 9/28/18 | [INSERT Federal Register CITATION], 05/19/2023 | Washoe County “Infrastructure” SIP for the 2015 Ozone NAAQS.
* * * * * * *

3. Section 52.1472 is amended by revising paragraph (k) to read as follows:

§ 52.1472 Approval status.

* * * * *

(k) 2015 8-hour ozone NAAQS. The SIP submittal from October 1, 2018, is disapproved for Clean Air Act (CAA) section 110(a)(2)(D)(i)(I) (prongs 1 and 2) for the NDEP, Clark County, and Washoe County portions of the Nevada SIP submission. The Nevada state implementation plan (SIP) submittal on October 1, 2018 is partially disapproved for the prevention of significant deterioration-related portions of Clean Air Act (CAA) elements 110(a)(2)(C), (D)(i)(II), (D)(ii), and (J) for the NDEP and Washoe County portions of the Nevada SIP. CAA element 110(a)(2)(J) for public notification is conditionally approved for NDEP and Washoe County.

* * * * *

[FR Doc. 2023-10657 Filed 5-18-23; 8:45 am]

BILLING CODE 6560-50-P